DEPARTMENT OF TRANSPORTATION

Surface Transportation Board

[STB Finance Docket No. 33973]

Dallas Area Rapid Transit—Acquisition and Operation Exemption—Lines of Union Pacific Railroad Company

Dallas Area Rapid Transit (DART), a political subdivision of the State of Texas, has filed a notice of exemption under 49 CFR 1150.41 to acquire (by purchase) approximately .75 miles of rail line owned by Union Pacific Railroad Company (UP) between approximately milepost 746.25 and approximately milepost 745.5 in the vicinity of Rowlett, TX.¹ DART certifies that its projected revenues will not result in the creation of a Class II or Class I rail carrier.

¹ Applicant states that it will grant trackage rights to UP (or UP's designee) on the subject line and that freight railroad operations on the subject line will be conducted by UP (or UP's designee) pursuant to the trackage rights. According to DART, UP (or UP's designee) will seek the Board's approval for the trackage rights in a separate filing.

The earliest the transaction could be consummated was December 21, 2000, the effective date of the exemption (7 days after the exemption was filed).

If the verified notice contains false or misleading information, the exemption is void ab initio. Petitions to revoke the exemption under 49 U.S.C. 10502(d) may be filed at any time. The filing of a petition to revoke does not automatically stay the transaction.

An original and 10 copies of all pleadings, referring to STB Finance Docket No. 33973, must be filed with the Surface Transportation Board, Office of the Secretary, Case Control Unit, 1925 K Street, NW., Washington, DC 20423-0001. In addition, one copy of each pleading must be served on Kevin M. Sheys, 1350 Eye Street, NW., Suite 200, Washington, DC 20005.

Board decisions and notices are available on our website at “WWW.STB.DOT.GOV.”

Decided: December 22, 2000.
By the Board, David M. Konschnik, Director, Office of Proceedings.
Vernon A. Williams,
Secretary.

[FR Doc. 00-33366 Filed 12-29-00; 8:45 am]

BILLING CODE 4915-00-P